DEPARTMENT OF ENERGY

Federal Energy Regulatory Commission

[Docket No. RP06-540-000]

High Island Offshore System, L.L.C., Notice of Proposed Changes in FERC Gas Tariff

September 5, 2006.

Take notice that on August 31, 2006, High Island Offshore System, L.L.C. (HIOS) tendered for filing as part of its FERC Gas Tariff, Third Revised Volume No. 1, the tariff sheets listed in Appendix A to the filing, to become effective October 1, 2006.

HIOS states that the proposed rate changes result in an increase of $13.8 million in total system revenues from jurisdictional service based on the 12-month base period ending June 30, 2006, as adjusted for known and measurable changes through the nine month test period ending March 31, 2007. HIOS further states that the rate change is necessary to compensate HIOS for increases in its operating costs, depreciation expense, and negative salvage expenses and to provide a reasonable management fee. HIOS notes that the rate change is also needed to recognize significant reductions in transportation throughput. HIOS also proposes to implement certain firm service enhancements applicable to future services. Finally, HIOS is proposing a new Rate Schedule FT-3, using a term-differentiated rate design.

HIOS states that a full copy of its filing is being served on all jurisdictional customers, applicable state commissions and interested parties that have requested service.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-14976 Filed 9-8-06; 8:45 am]

BILLING CODE 6717-01-P